COMMODITY FUTURES TRADING COMMISSION

17 CFR Chapter I

RIN 3038-AE55

Project KISS

AGENCY: Commodity Futures Trading Commission.

ACTION: Request for Information.

SUMMARY: In order to reduce regulatory burdens and costs in the markets that the Commodity Futures Trading Commission (“Commission” or “CFTC”) oversees, the Commission is seeking suggestions from the public about how the Commission's existing rules, regulations, or practices could be applied in a simpler, less burdensome, and less costly manner.

DATES: Suggestions must be received on or before September 30, 2017.

ADDRESSES: You may submit suggestions, identified by RIN number 3038-AE55, by any of the following methods:

• The agency's Web site, at http://comments.cftc.gov. Follow the instructions for submitting a Project KISS suggestion through the Public Comment Form.

• Mail: Christopher Kirkpatrick, Secretary of the Commission, Commodity Futures Trading Commission, Three Lafayette Centre, 1155 21st Street NW., Washington, DC 20581.

• Hand Delivery/Courier: Same as Mail above.

Please submit your suggestions using only one method.

FOR FURTHER INFORMATION CONTACT: Michael Gill, Regulatory Reform Officer, (202) 418-5713, mgill@cftc.gov, Commodity Futures Trading Commission, Three Lafayette Centre, 1151 21st Street NW., Washington, DC 20581; or KISS@cftc.gov.

SUPPLEMENTARY INFORMATION: On February 24, 2017, President Donald J. Trump issued Executive Order 13777: Enforcing the Regulatory Reform Agenda (“E.O. 13777”). E.O. 13777 directs federal agencies, among other things, to designate a Regulatory Reform Officer and establish a Regulatory Reform Task Force. Although the CFTC, as an independent federal agency,¹ is not bound by E.O. 13777, the Commission is nevertheless commencing an agency-wide review of its rules, regulations, and practices to make them simpler, less burdensome, and less costly. This initiative is called Project KISS, which stands for “Keep It Simple Stupid.” ² In support of these efforts, the Commission has approved the solicitation of suggestions from the public regarding how the Commission's existing rules, regulations, or practices could be applied in a simpler, less burdensome, and less costly manner. The public may submit Project KISS suggestions through the Public Comment Form on the Commission's Web site, at http://comments.cftc.gov.

¹ Independent federal agencies exist outside of the federal executive departments headed by a Cabinet secretary and the Executive Office of the President. See Humphrey's Executor v. United States, 295 U.S. 602 (1935); 5 U.S.C. 104.

² See Remarks of Acting Chairman J. Christopher Giancarlo before the 42nd Annual International Futures Industry Conference in Boca Raton, FL, Mar. 15, 2017, available at http://www.cftc.gov/PressRoom/SpeechesTestimony/opagiancarlo-20.

The Commission is not asking the public to identify rules for revocation, suspension, annulment, withdrawal, limitation, amendment, modification, conditioning or repeal. The submission of a Project KISS suggestion will not constitute a petition for issuance, amendment, or repeal of a rule pursuant to § 13.2 of the Commission's regulations,³ nor will it constitute a request for an exemptive, no-action, or interpretive letter pursuant to § 140.99 of the Commission's regulations.⁴ The Commission will treat Project KISS suggestions like the Commission treats other correspondence that it receives. Submission of a Project KISS suggestion may not result in Commission action.

³ 17 CFR 13.2.

⁴ 17 CFR 140.99.

All suggestions must be submitted in English, or if not, accompanied by an English translation. Suggestions will be posted as received to http://www.cftc.gov. You should submit only information that you wish to make available publicly. If you wish to submit information that you believe is exempt from disclosure under the Freedom of Information Act in your suggestion(s), please submit your suggestion(s) via Mail or Hand Delivery/Courier and also submit a petition for confidential treatment of the exempt information according to the procedures established in § 145.9 of the Commission's regulations.⁵

⁵ 17 CFR 145.9.

The Commission reserves the right, but shall have no obligation, to review, pre-screen, filter, redact, refuse or remove any or all of your suggestion(s) from http://www.cftc.gov that it may deem to be inappropriate for publication, such as a suggestion containing obscene language. Any suggestions that contain comments on the merits of an outstanding proposed rulemaking will be retained in the public comment file for that rulemaking and considered as required under the Administrative Procedure Act and other applicable laws. All suggestions that have been redacted or removed that contain comments on the merits of an outstanding proposed rulemaking will be retained in the public comment file and will be considered as required under the Administrative Procedure Act and other applicable laws, and may be accessible under the Freedom of Information Act.

Issued in Washington, DC, on May 3, 2017, by the Commission.
Robert N. Sidman,
Deputy Secretary of the Commission.

Appendix to Project KISS—Commission Voting Summary

On this matter, Acting Chairman Giancarlo and Commissioner Bowen voted in the affirmative. No Commissioner voted in the negative.

[FR Doc. 2017-09318 Filed 5-8-17; 8:45 am]

BILLING CODE 6351-01-P